DEPARTMENT OF COMMERCE

National Oceanic and Atmospheric Administration

50 CFR Part 635

[I.D. 121799E]

Atlantic Highly Migratory Species Fisheries; Additional Public Hearings

AGENCY: National Marine Fisheries Service (NMFS), National Oceanic and Atmospheric Administration (NOAA), Commerce.

ACTION: Public hearings; extension of comment period.

SUMMARY: NMFS filed a public hearing announcement and request for comments on December 21, 1999, to receive comments from fishery participants and other members of the public regarding proposed regulations to reduce bycatch in the Atlantic pelagic longline fishery. NMFS also announced a joint meeting of the HMS and Billfish Advisory Panels (APs). NMFS herewith announces three additional public hearings and extends the comment period for both the proposed rule and the Draft Supplemental Environmental Impact Statement/Regulatory Impact Review/Initial Regulatory Flexibility Analysis (DSEIS/RIR/IRFA).

To accommodate people unable to attend a hearing or wishing to provide written comments, NMFS also solicits written comments on the proposed rule and the DSEIS/RIR/IRFA. DATES: The additional hearings are scheduled as follows:

1. Tuesday, February 15, 2000, 7 to 9:30 p.m., Biloxi, MS.

2. Wednesday, February 16, 2000, 7 to 9:30 p.m., New Orleans, LA.

3. Thursday, February 17, 2000, 7 to 9:30 p.m., Riverhead, NY.

Written comments on the proposed rule or DSEIS/RIR/IRFA must be received at the appropriate address or fax number (see ADDRESSES) no later than 5 p.m., eastern standard time, on March 1, 2000.

ADDRESSES: The locations for the additional hearings are as follows:

1. Department of Marine Resources, Back Bay Auditorium, 1141 Bayview Avenue, Biloxi, MS 39530

2. Four Points Hotel, 333 Poydras Street, New Orleans, LA 70130

3. Town Hall, 2000 Howell Avenue, Riverhead, NY 11901

Persons submitting written comments on the proposed rule or the DSEIS/RIR/IRFA should include their name, address and if possible phone number; the title of the document on which comments are being submitted; and specific factors or comments along with supporting reasons why you believe NMFS should consider them in reaching a decision.

Written comments on the proposed rule or DSEIS/RIR/IRFA should be sent to Rebecca Lent, Chief, Highly Migratory Species Management Division, Office of Sustainable Fisheries (F/SF1), National Marine Fisheries Service, 1315 East-West Highway, Silver Spring, MD 20910. Comments also may be sent via facsimile (fax) to 301-713-1917. Comments will not be accepted if submitted via e-mail or Internet. For copies of the draft Technical Memorandum and DSEIS/RIR/IRFA contact Jill Stevenson at 301-713-2347, or write to Rebecca Lent. FOR FURTHER INFORMATION CONTACT: Jill Stevenson at 301-713-2347, fax 301-713-1917, e-mail jill.stevenson@noaa.gov. SUPPLEMENTARY INFORMATION: The proposed regulations that are the subject of the hearings are necessary to address requirements of the Magnuson-Stevens Fishery Conservation and Management Act for the conservation and management of HMS.

A complete description of the measures, and the purpose and need for the proposed actions, is contained in the proposed rule, published December 15, 1999 (64 FR 69982) and is not repeated here. Information on other hearing locations and the AP meeting was published on December 28, 1999 (64 FR 72636). Copies of the proposed rule or the list of other hearing and AP meeting locations may be obtained by writing (see ADDRESSES) or by calling Jill Stevenson (see FOR FURTHER INFORMATION CONTACT).

On December 30, 1999, the Environmental Protection Agency published a Notice of Availability of the DSEIS/RIR/IRFA for the proposed action (64 FR 73550). The comment period on this document (EIS No. 990495) is also extended until March 1, 2000.

Special Accommodations

The hearings and the AP meeting are physically accessible to people with disabilities. Requests for sign language interpretation or other auxiliary aids should be directed to Jill Stevenson (see FOR FURTHER INFORMATION CONTACT) at least 7 days prior to the hearing or meeting. Authority: 16 U.S.C. 971 et seq., and 16 U.S.C. 1801 et seq.

Dated: January 14, 2000.
Bruce C. Morehead, Acting Director, Office of Sustainable Fisheries, National Marine Fisheries Service.

[FR Doc. 00-1348 Filed 1-19-00; 8:45 am]

BILLING CODE 3510-22-F